DEPARTMENT OF THE INTERIOR

Bureau of Land Management

[BLM_CA_FRN_MO4500170079]

Notice of Public Meetings of the Central California Resource Advisory Council

AGENCY: Bureau of Land Management, Interior.

ACTION: Notice of public meetings.

SUMMARY: In accordance with the Federal Land Policy and Management Act and the Federal Advisory Committee Act, the U.S. Department of the Interior, Bureau of Land Management's (BLM) Central California Resource Advisory Council (RAC) will meet as follows.

DATES: The RAC will hold public meetings on June 14 and 15, 2023; Sept. 12 and 13, 2023; Nov. 14 and 15, 2023; and Feb. 27 and 28, 2024. Field Tours will be held on June 14, Sept. 12, Nov. 14, and Feb. 27 from 1 p.m. to 5 p.m. each day. In-person business meetings will be held on June 15, Sept. 13, Nov. 15, and Feb. 28, from 9 a.m. to 12 p.m. each day, and a virtual participation option will be available. Public comments will be accepted at 11:30 a.m. on each business meeting day.

If weather or circumstances arise that prohibit on-site meetings, the field tours will be cancelled, and the business meetings will be held in all-virtual formats via Zoom from 9 a.m. to 12 p.m. on Thursday, June 15; Wednesday, Sept. 13; Wednesday, Nov. 15; and Wednesday, Feb. 28. The meetings and field tours are open to the public.

ADDRESSES: Meeting links and participation instructions will be made available to the public via news media, social media, the RAC's web page at https://go.usa.gov/xH9ya, and through personal contact 2 weeks prior to the meeting. The June 14 field tour will be to the Merced River Recreation Management Area. The field tour will commence and conclude at the BLM Briceburg Visitor Center, 7555 State Route 140, Midpines, CA 95345. The June 15 meeting will also be held at the BLM Briceburg Visitor Center.

The Sept. 12 field tour will be to Case Mountain Extensive Recreation Management Area. The field tour will commence and conclude at the Three Rivers Veteran's Hall, 43490 Sierra Dr., Three Rivers, CA. The Sept. 13 meeting will be held at the BLM Bakersfield Field Office, 35126 McMurtrey Avenue, Bakersfield, CA 93308.

The Nov. 14 field tour will be to the Berryessa Snow Mountain National Monument. The field tour will commence and conclude at the BLM Ukiah Field Office, 2550 North State Street, Suite 2, Ukiah, CA 95482. The Nov. 15 meeting will also be held at the BLM Ukiah Field Office.

The Feb. 27, 2024, field tour will be to the Cotoni-Coast unit of the California Coastal National Monument. The field tour will commence and conclude at Swanton Berry Farm, 25 Swanton Rd., Davenport, CA. The Feb. 28, 2024, meeting will be held at the BLM Central Coast Field Office, 940 2nd Avenue, Marina, CA 93933.

Written comments pertaining to any of the above meetings can be sent to the BLM Central California District Office, 5152 Hillsdale Circle, El Dorado Hills, CA 95762, Attention: RAC meeting comments.

FOR FURTHER INFORMATION CONTACT: Public Affairs Officer Philip Oviatt, email: poviatt@blm.gov or telephone: (661) 342-4252. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Topics for the RAC meetings are as follows: On June 14, 2023, the RAC will tour the Merced River Recreation Management Area that may be affected by potential fee increases under consideration. On June 15, 2023, the RAC will be briefed on a business plan being developed with potential fee increases at sites within the jurisdiction of the Mother Lode Field Office, which would require recommendations from the RAC. The RAC will also hear reports from the district and field offices. On Sept. 12, 2023, the RAC will tour Case Mountain Extensive Recreation Management Area to view the progress made since its inception. On Sept. 13, 2023, the RAC will hear about the Case Mountain Forest Health Project and its progress and trajectory toward completion. The RAC will also be briefed on projects from the district and field offices, including a wildland fire update. On Nov. 14, 2023, the RAC will tour the Berryessa Snow Mountain National Monument to view components of the management plan under development. On Nov. 15, 2023, the RAC will be briefed on the progress of the Berryessa Snow Mountain National Monument Management Plan and determine how it will continue to participate in the process. In addition, the RAC will hear reports from the district and field offices. On Feb. 27, 2024, the RAC will tour the Cotoni-Coast Dairies unit to see the updates made under the management plan. On Feb. 28, 2024, the RAC will discuss implementation of the management plan for the Cotoni-Coast Dairies unit of the California Coastal Monument, which has had its original plan modified due to changing conditions within the unit. The RAC will also hear reports from the district and field offices, including a post-season wildland fire assessment, and schedule additional meeting dates for 2024.

All meetings are open to the public. Each formal RAC meeting will have time allocated for public comments. Depending on the number of persons wishing to speak and the time available, the amount of time for oral comments may be limited. Written public comments may be sent to the BLM Central California District Office listed in the ADDRESSES section of this notice. All comments received will be provided to the RAC. Before including your address, phone number, email address, or other personal identifying information in your comment, you should be aware that your entire comment—including your personal identifying information—may be made publicly available at any time. While you can ask us in your comment to withhold your personal identifying information from public review, we cannot guarantee that we will be able to do so.

Members of the public are welcome on field tours but must provide their own transportation and meals. Individuals who plan to attend and need special assistance, such as sign language interpretation and other reasonable accommodations, should contact the BLM (see FOR FURTHER INFORMATION CONTACT).

Detailed minutes for the RAC meetings will be maintained in the BLM Central California District Office. Minutes will also be posted to the BLM California RAC web page.

(Authority: 43 CFR 1784.4-2)

Christopher M. Rocker Heppe,
Central California District Manager.

[FR Doc. 2023-08427 Filed 4-20-23; 8:45 am]

BILLING CODE 4331-15-P